DEPARTMENT OF AGRICULTURE

Submission for OMB Review; Comment Request

December 19, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 23, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Risk Preferences and Demand for Crop Insurance and Cover Crop Program.

OMB Control Number: 0536-NEW.

Summary of Collection: Federal crop insurance programs and soil conservation programs, including those that promote use of cover crops, can significantly alter the farm revenue risk profile for the farmers who adopt them. The Economic Research Service (ERS) currently models the demand for federal crop insurance and cover crop promotion programs as part of multiple research objectives. These economic models rely on traditional theories of farmer decision-making under risk, and over-predict participation rates for all crop insurance and cover crop programs. This data collection will use an experiment with university students to test alternate theories of decision-making under risk. ERS will be using a laboratory experiment to (1) characterize the relationship between cover crop usage and crop insurance purchase, and (2) explore how this relationship depends on individuals risk preferences and demographic characteristics. Data collection for this project is authorized by the 7 U.S.C. 2204(a).

Need and Use of the Information: The information to be collected under this proposed study is needed to provide evidence as to which theories best predict joint adoption of cover crop and crop insurance programs. This research will be exploratory in nature, and will be used to gain insights into specific economic behaviors regarding decision-making under risk. This research will not be used to generate population estimates, and the results from the proposed study design are not intended to be generalizable outside of the study participants. Results from this experiment will be used to inform future experimental research studies for risk management decision-making with more representative samples.

Description of Respondents: Individuals or households.

Number of Respondents: 2,000.

Frequency of Responses: Reporting: On occasion.

Total Burden Hours: 861.

Ruth Brown,
Departmental Information Collection Clearance Officer.

[FR Doc. 2016-30897 Filed 12-22-16; 8:45 am]

BILLING CODE 3410-18-P